DEPARTMENT OF DEFENSE

Department of the Army

[Docket ID: USA-2023-HQ-0007]

Proposed Collection; Comment Request

AGENCY: U.S. Army Corps of Engineers (USACE), Department of the Army, Department of Defense (DoD).

ACTION: 60-Day information collection notice.

SUMMARY: In compliance with the Paperwork Reduction Act of 1995, the USACE announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 30, 2023.

ADDRESSES: You may submit comments, identified by docket number and title, by any of the following methods:

Federal eRulemaking Portal: https://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to U.S. Army Engineer Research and Development Center (ERDC), 3909 Halls Ferry Road, Vicksburg, MS 39180; ATTN: Dr. Robert P. Jones, or call 601-634-4098.

SUPPLEMENTARY INFORMATION:

Title; Associated Form; and OMB Number: Stakeholder and Community Coastal Storm Hazard Surveys; OMB Control Number 0710-CCFR.

Needs and Uses: Information from the surveys described here is needed to address the research questions funded in the Compound Coastal Flooding Congressional Add; a $5 million joint effort between the U.S. Army Corps of Engineers—Engineer Research and Development Center (ERDC) and the University of Alabama. Research seeks to inform improved modeling of compound coastal storm events, including improved simulation of impacts to communities and of protective action-taking. The collaborative Broad Agency Agreement with the University of Alabama includes proposed tasks to identify effective flood risk communication tools which influence coastal residents' risk mitigation actions and to better understand key community stakeholder communication of hazards. Execution of these funded tasks requires the University of Alabama Principal Investigator and team to gather information through three community and stakeholder surveys. Findings from their analysis will inform coastal storm hazard modeling and risk communication for better outcomes from storm events.

Affected Public: Individuals or households.

Annual Burden Hours: 1,525.

Number of Respondents: 3,050.

Responses per Respondent: 1.

Annual Responses: 3,050.

Average Burden per Response: 30 minutes.

Frequency: Once.

The coastal storm hazard surveys will be distributed to stakeholders and members of the general public in Houston, Texas, Mobile, Alabama, and Savannah, Georgia. The stakeholder survey instrument aims to identify the perceptions and attitudes of local stakeholders in these at-risk areas toward coastal storm hazards, mitigation of those hazards, and the information dissemination to the public regarding those hazards. Three community survey instruments aim to identify the perceptions and use of information by the general public regarding coastal hazards, specifically hurricane and flood events, before, during, and after the Atlantic hurricane season. The data will be used for statistical tests to identify significant trends in the distinct topics addressed by each survey.

Dated: March 22, 2023.
Aaron T. Siegel,
Alternate OSD Federal Register Liaison Officer, Department of Defense.

[FR Doc. 2023-06331 Filed 3-27-23; 8:45 am]

BILLING CODE 3710-08-P